DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 46527-46530, dated August 10, 2005) is amended to reflect the establishment of the Office of Chief of Public Health Practice within the Office of the Director, Centers for Disease Control and Prevention.

After the mission statement for the Office of Workforce and Career Development (CAL), insert the following:

Office of Chief of Public Health Practice (CAR). The Office of Chief of Public Health Practice (OCPHP) serves as the advocate, guardian, promoter, and conscience of public health practice throughout CDC and in the larger public health community; ensures coordination and synergy of CDC's scientific and practice activities; and promotes and protects the public's health through science-based, practice-relevant standards, policies, and legal tools. Activities in support of the mission are carried out through programs and offices focused on public health law, public health system standards, agency accreditation, and surveillance for emerging issues in public health practice. To carry out its mission, OCPHP: (1) Develops the legal preparedness of CDC programs and the public health system to address terrorism and other national public health priorities; (2) improves the understanding and use of law as a public health tool by CDC programs and extramural partners; (3) establishes robust partnerships among CDC programs, public health practitioners and key sectors, including elected officials, the legal community, and law enforcement and emergency response organizations; (4) establishes a functional area focused specifically on standards and improvement in practice among state and local public health systems; (5) advances the development and implementation of a national agency accreditation system; (6) relates relevant research and policy analysis to public health practice; (7) monitors and anticipates public health practice trends and issues; and (8) coordinates and addresses cross-cutting issues related to public health practice within CDC.

Dated: August 10, 2005.
William H. Gimson,
Chief Operating Officer, Centers for Disease Control and Prevention (CDC).

[FR Doc. 05-17072 Filed 8-26-05; 8:45 am]

BILLING CODE 4160-18-M